DEPARTMENT OF COMMERCE

Office of Inspector General

Performance Review Board Membership

The following individuals are eligible to serve on the Performance Review Board (PRB) in accordance with the Department of Commerce Senior Executive Service Performance Appraisal System and the Office of Inspector General's PRB Charter:

Edward L. Blansitt, Deputy Inspector General

Elizabeth T. Barlow, Counsel to the Inspector General

Jill A. Gross, Assistant Inspector General for Inspections & Evaluations

Judith J. Gordon, Assistant Inspector General for Systems Evaluation

Stephen E. Garmon, Assistant Inspector General for Investigations

Robert Seabrooks, Assistant Inspector General for Auditing, Small Business Administration

Denise A. Yaag,
Executive Secretary, Performance Review Board, Office of Inspector General.

[FR Doc. 00-28949 Filed 11-9-00; 8:45 am]

BILLING CODE 3510-55-M